DEPARTMENT OF THE TREASURY

Submission for OMB Review; Comment Request

August 18, 2003.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before September 25, 2003, to be assured of consideration.

Departmental Offices/Office of Financial Institutions Policy

OMB Number: 1505-0190.

Form Number: None.

Type of Review: Extension.

Title: Terrorism Risk Insurance Program Rebuttal of Controlling Influence Submissions.

Description: 31 CFR 50.8 specifies a rebuttal procedure that requires a written submission by a insurer that seeks to rebut a regulatory presumption of “controlling influence” over another insurer under the Terrorism Risk Insurance Program, to provide Treasury with necessary information to make a determination.

Respondents: Business or other for-profit, Federal Government.

Estimated Number of Respondents: 10.

Estimated Burden Hours Per Respondent: 40 hours.

Frequency of Response: Other (one time).

Estimated Total Reporting Burden: 400 hours.

Clearance Officer: Lois K. Holland, (202) 622-1563, Departmental Offices, Room 2110, 1425 New York Avenue, NW., Washington, DC 20220.

OMB Reviewer: Joseph F. Lackey, Jr., (202) 395-7316, Office of Management and Budget, Room 10235, New Executive Office Building, Washington, DC 20503.

Lois K. Holland,
Treasury PRA Clearance Officer.

[FR Doc. 03-21801 Filed 8-25-03; 8:45 am]

BILLING CODE 4811-16-P